DEPARTMENT OF AGRICULTURE

Forest Service

North Mt. Baker-Snoqualmie Resource Advisory Committee

AGENCY: Forest Service, USDA.

ACTION: Notice of meeting.

SUMMARY: The North Mt. Baker-Snoqualmie (MBS) Resource Advisory Committee (RAC) will meet in Sedro Woolley, Washington on September 22, 2010. The committee is meeting to review and rank 2010 and 2011 Title II RAC proposals.

DATES: The meeting will be held on Wednesday, September 22, 2010, from8 a.m. to 4 p.m.

ADDRESSES: The meeting will be held at the Mt. Baker Ranger District office located at 810 State Route 20, Sedro Woolley, Washington 98284.

FOR FURTHER INFORMATION CONTACT: Jon Vanderheyden, District Ranger, Mt. Baker Ranger District, phone (360) 854-2601, e-mail jvanderheyden@fs.fed.us. Individuals who use telecommunication devices for the deaf (TDD) may call the Federal Information Relay Service (FIRS) at 1-800-877-8339 between8 a.m. and 8 p.m., Eastern Standard Time, Monday through Friday.

SUPPLEMENTARY INFORMATION: The meeting is open to the public. More information will be posted on the Mt. Baker-Snoqualmie National Forest Web site at http://www.fs.fed.us/r6/mbs/projects/rac.shtml.

Comments may be sent via e-mail to jvanderheyden@fs.fed.us or via facsimile to (360) 856-1934. All comments, including names and addresses when provided, are placed in the record and are available for public inspection and copying. The public may inspect comments received at the Mt. Baker Ranger District office at 810 State Route 20, Sedro Woolley, Washington, during regular office hours (Monday through Friday 8 a.m.-4:30 p.m.).

Dated: August 13, 2010.
Y. Robert Iwamoto,
Forest Supervisor.

[FR Doc. 2010-20683 Filed 8-20-10; 8:45 am]

BILLING CODE 3410-11-M